DEPARTMENT OF DEFENSE

Office of the Secretary

[Transmittal Nos. 13-20]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 13-20 with attached transmittal, and policy justification.

Dated: May 1, 2013.
Aaron Siegel,
Alternate OSD Federal Register Liaison Officer, Department of Defense.

Transmittal No. 13-20

Notice of Proposed Issuance of Letter of Offer

Pursuant to Section 36(b)(1) of the Arms Export Control Act, as amended

(i) Prospective Purchaser: Israel

(ii) Total Estimated Value:

* As defined in Section 47(6) of the Arms Export Control Act.

Major Defense Equipment* | $0 billion
Other | $2.67 billion
Total | $2.67 billion

(iii) Description and Quantity or Quantities of Articles or Services under Consideration for Purchase: 864,000,000 gallons of petroleum based products (JP-8 Aviation Fuel, Diesel Fuel, and Unleaded Gasoline).

(iv) Military Department: Army (ZVP-JP-8), (ZVQ-Diesel Fuel), (ZVR-Unleaded Gasoline).

(v) Prior Related Cases, if any: Numerous cases dating back to 1995.

(vi) Sales Commission, Fee, etc., Paid, Offered, or Agreed to be Paid: None.

(vii) Sensitivity of Technology Contained in the Defense Article or Defense Services Proposed to be Sold: None.

(viii) Date Report Delivered to Congress: 16 April 2013.

POLICY JUSTIFICATION

Israel—JP-8 Aviation Fuel, Diesel Fuel, and Unleaded Gasoline

The Government of Israel has requested a possible sale of 864,000,000 gallons of petroleum based products consisting of JP-8 aviation fuel, diesel fuel and unleaded gasoline. Due to volatility in the oil market, this notification requests a total quantity of these various fuels rather than specific quantities of individual fuels. The estimated cost is $2.67 billion.

The United States is committed to the security of Israel, and it is vital to U.S. national interests to assist Israel to develop and maintain a strong and ready self-defense capability. This proposed sale is consistent with those objectives.

The proposed sale of the JP-8 aviation fuel will enable Israel to maintain the operational capability of its aircraft. The diesel fuel and unleaded gasoline will be used for Israeli ground vehicles. Israel will have no difficulty absorbing this additional fuel into its armed forces.

The proposed sale of these three types of fuel will not alter the basic military balance in the region and will provide Israel with the necessary flexibility to balance its individual fuel type needs as the situation requires.

The U.S. vendors are unknown at this time due to the competitive bid process for the supply source(s). There are no known offset agreements proposed in connection with this potential sale.

Implementation of this proposed sale will not require the assignment of any additional U.S. Government or contractor representatives to Israel.

There will be no adverse impact on U.S. defense readiness as a result of this proposed sale.

[FR Doc. 2013-10634 Filed 5-3-13; 8:45 am]

BILLING CODE 5001-06-P